DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of August 15, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Federal Emergency Management Agency, Department of Homeland Security.

Community | Community map repository address
Newton County, Georgia and Incorporated Areas
Docket No.: FEMA-B-2238
Unincorporated Areas of Newton County | Newton County Development Services, 1113 Usher Street, Suite 201, Covington, GA 30014.
Saginaw County, Michigan (All Jurisdictions)
Docket No.: FEMA-B-2223
Charter Township of Bridgeport | Charter Township Governmental Center, 6740 Dixie Highway, Bridgeport, MI 48722.
Charter Township of Buena Vista | Buena Vista, Administration Building, 1160 South Outer Drive, Saginaw, MI 48601.
Charter Township of Saginaw | Township Hall, 4980 Shattuck Road, Saginaw, MI 48603.
City of Frankenmuth | City and Township Government Center, 240 West Genesee Street, Frankenmuth, MI 48734.
City of Saginaw | City Hall, 1315 South Washington Avenue, 2nd Floor, Saginaw, MI 48601.
City of Zilwaukee | City of Zilwaukee Administration Building, 319 Tittabawassee Road, Saginaw, MI 48604.
Township of Albee | Albee Township Community Center, 10645 East Road, Burt, MI 48417.
Township of Birch Run | Township Center, 8425 Main Street, Birch Run, MI 48415.
Township of Blumfield | Blumfield Township Office, 1175 Vassar Road, Reese, MI 48757.
Township of Brant | Township Hall, 11012 South Hemlock Road, Brant, MI 48614.
Township of Carrollton | Carrollton Township Office, 1645 Mapleridge Road, Saginaw, MI 48604.
Township of Chesaning | Township Hall, 1025 West Brady Road, Chesaning, MI 48616.
Township of Frankenmuth | City and Township Government Center, 240 West Genesee Street, Frankenmuth, MI 48734.
Township of Fremont | Fremont Township Hall, 5980 South Hemlock Road, Hemlock, MI 48626.
Township of James | James Township Hall, 6060 Swan Creek Road, Saginaw, MI 48609.
Township of Kochville | Kochville Township Offices, 5851 Mackinaw Road, Saginaw, MI 48604.
Township of Maple Grove | Maple Grove Township Hall, 17010 Lincoln Road, New Lothrop, MI 48460.
Township of Marion | Marion Township Hall, 10925 South Merrill Road, Brant, MI 48614.
Township of Spaulding | Spaulding Township Offices, 5025 East Road, Saginaw, MI 48601.
Township of St. Charles | Township Office, 1003 North Saginaw Street, St. Charles, MI 48655.
Township of Swan Creek | Swan Creek Township Hall, 11415 Lakefield Road, St. Charles, MI 48655.
Township of Taymouth | Taymouth Township Offices, 4343 East Birch Run Road, Birch Run, MI 48415.
Township of Thomas | Thomas Municipal Office, 249 North Miller Road, Saginaw, MI 48609.
Township of Tittabawassee | Tittabawassee Township Offices, 145 South 2nd Street, Freeland, MI 48623.
Township of Zilwaukee | Zilwaukee Township Hall, 6189 Sherman Road, Saginaw, MI 48604.
Village of Chesaning | Administrative Offices, 218 North Front Street, Chesaning, MI 48616.
Village of St. Charles | Village Hall, 110 West Spruce Street, St. Charles, MI 48655.
Shelby County, Missouri and Incorporated Areas
Docket No.: FEMA-B-2233
City of Shelbina | City Hall, 116 East Walnut Street, Shelbina, MO 63468.
Unincorporated Areas of Shelby County | Shelby County Courthouse, 100 East Main Street, Shelbyville, MO 63469.
Beaverhead County, Montana and Incorporated Areas
Docket No.: FEMA-B-2121
City of Dillon | City Hall, 125 North Idaho Street, Dillon, MT 59725.
Town of Lima | Beaverhead County Courthouse, 2 South Pacific Street, Suite 7, Dillon, MT 59725.
Unincorporated Areas of Beaverhead County | Beaverhead County Courthouse, 2 South Pacific Street, Suite 7, Dillon, MT 59725.
Lewis County, Washington and Incorporated Areas
Docket No.: FEMA-B-2215
Unincorporated Areas of Lewis County | Lewis County Community Development, 2025 Northeast Kresky Avenue, Chehalis, WA 98532.
Florence County, Wisconsin and Incorporated Areas
Docket No.: FEMA-B-2138
Unincorporated Areas of Florence County | Florence County Courthouse, 501 Lake Avenue, Florence, WI 54121.

[FR Doc. 2023-07678 Filed 4-11-23; 8:45 am]

BILLING CODE 9110-12-P